DEPARTMENT OF COMMERCE

Foreign-Trade Zones Board

[S-138-2020]

Approval of Expansion of Subzone 18F; Lam Research Corporation; Hayward, California

On August 10, 2020, the Executive Secretary of the Foreign-Trade Zones (FTZ) Board docketed an application submitted by the City of San Jose, grantee of FTZ 18, requesting to expand Subzone 18F on behalf of Lam Research Corporation in Hayward, California, subject to the existing activation limit of FTZ 18.

The application was processed in accordance with the FTZ Act and Regulations, including notice in the Federal Register inviting public comment (85 FR 50803, August 18, 2020). The FTZ staff examiner reviewed the application and determined that it meets the criteria for approval. Pursuant to the authority delegated to the FTZ Board Executive Secretary (15 CFR Sec. 400.36(f)), the application to expand Subzone 18F was approved on October 2, 2020, subject to the FTZ Act and the Board's regulations, including Section 400.13, and further subject to FTZ 18's 2,000-acre activation limit.

Dated: October 2, 2020.
Andrew McGilvray,
Executive Secretary.

[FR Doc. 2020-22279 Filed 10-7-20; 8:45 am]

BILLING CODE 3510-DS-P